DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Permit Family of Forms.

OMB Control Number: 0648-0205.

Form Number(s): None.

Type of Request: Regular (revision of a currently approved information collection).

Number of Respondents: 13,409.

Average Hours per Response: 30 minutes.

Burden Hours: 5,836.

Needs and Uses: The collection consists of vessel and dealer permits that are part of the National Marine Fisheries Service (NMFS) program to manage fisheries in the Southeast Region. The fisheries in the Southeast Region are managed under the Magnuson-Stevens Fishery Conservation and Management Act (MSA) (16 U.S.C. 1801) and regulations at 50 CFR part 622, 50 CFR part 635 and 50 CFR prt 300. NMFS issues permits to fishing vessels and dealers in order to collect information necessary to comply with domestic and international fisheries obligations, secure compliance with regulations, and disseminate necessary information.

This revision would amend the “Federal Permit Application for Vessels Fishing in the Exclusive Economic Zone (EEZ)” to add the collection of an International Maritime Organization/Lloyd's Registry (IMO/LR) number to the permit application for commercial HMS vessels ≥20 meters (65′7″) in length that are obtaining or renewing a HMS limited access permit, including the Atlantic tuna longline, shark incidental, shark directed, swordfish incidental, swordfish directed, and swordfish handgear permits. The International Commission for the Conservation of Atlantic Tunas (ICCAT) approved a recommendation (13-13) for Contracting Parties to require commercial vessels ≥20 meters (65′7″) in length to obtain an IMO/LR number from IHS/Fairplay by no later than January 1, 2016. Permit applications that do not contain the required supporting documents will be considered incomplete.

This revision would also change the Report for the Deposit or Harvest of Aquacultured Live Rock by adding language to the instructions, specifically, “If not originally approved, then provide a new sample of rock,” adding the USCG documentation number or state registration number for the primary vessel the permit is used on, changing the wording in the instructions for the box describing the deposited material to include the “type and specific geographic origin” of the material, and adding a yes/no check box for whether a sample of the deposit material has been provided to NMFS.

Also, this revision removes the responses, time and cost burden associated with the South Atlantic rock shrimp VMS requirement and transfers those responses, time and cost burden to the OMB Control No. 0648-0544 information collection.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 9, 2015.
Sarah Brabson,
NOAA PRA Clearance Officer.

[FR Doc. 2015-17326 Filed 7-14-15; 8:45 am]

BILLING CODE 3510-22-P